DEPARTMENT OF TRANSPORTATION

Federal Aviation Administration

14 CFR Part 39

[Docket No. 2000-NE-13-AD; Amendment 39-13950; AD 2005-02-05]

RIN 2120-AA64

Airworthiness Directives; Rolls-Royce plc RB211 Series Turbofan Engines

AGENCY: Federal Aviation Administration (FAA), DOT.

ACTION: Final rule; request for comments.

SUMMARY: The FAA is superseding an existing airworthiness directive (AD) for Rolls-Royce (RR) plc RB211-535E4-37, RB211-535E4-B-37, and RB211-535E4-B-75 series turbofan engines. That AD currently requires initial and repetitive ultrasonic inspections of installed LPC fan blade roots on-wing and during overhaul using a surface wave ultrasonic probe, and relubrication, according to accumulated life cycles. That AD also adds the application of Metco 58 blade root coating as an optional terminating action. This AD requires the same actions, but changes the reference to Mandatory Service Bulletin (MSB) No. RB.211-72-C879 from Revision 3 to Revision 4. This AD results from RR issuing MSB No. RB.211-72-C879, Revision 4, which contains revised Accomplishment Instructions and consumable materials list. We are issuing this AD to detect cracks in low pressure compressor (LPC) fan blade roots, which if not detected, could lead to uncontained multiple fan blade failure, and damage to the airplane.

DATES: Effective February 11, 2005. The Director of the Federal Register approved the incorporation by reference of certain publications listed in the regulations as of February 11, 2005.

We must receive any comments on this AD by March 28, 2005.

ADDRESSES: Use one of the following addresses to submit comments on this AD:

• By mail: Federal Aviation Administration (FAA), New England Region, Office of the Regional Counsel, Attention: Rules Docket No. 2000-NE-13-AD, 12 New England Executive Park, Burlington, MA 01803-5299.

• By fax: (781) 238-7055.

• By e-mail: 9-ane-adcomment@faa.gov.

You can get the service information referenced in this AD from Rolls-Royce plc, PO Box 31, Derby, England, DE248BJ; telephone: 011-44-1332-242-424; fax: 011-44-1332-249-936.

You may examine the AD docket, by appointment, at the FAA, New England Region, Office of the Regional Counsel, 12 New England Executive Park, Burlington, MA.

FOR FURTHER INFORMATION CONTACT: Ian Dargin, Aerospace Engineer, Engine Certification Office, FAA, Engine and Propeller Directorate, 12 New England Executive Park, Burlington, MA 01803-5299; telephone: (781) 238-7178; fax: (781) 238-7199.

SUPPLEMENTARY INFORMATION: On June 13, 2003, we issued AD 2003-12-15, Amendment 39-13200 (68 FR 37735, June 25, 2003). That AD requires initial and repetitive ultrasonic inspections of installed LPC fan blade roots on-wing and during overhaul using a surface wave ultrasonic probe, and relubrication, according to accumulated life cycles. That AD also introduces an alternative technique to ultrasonically inspect installed fan blades on-wing using a surface wave ultrasonic probe. Also, that AD adds the application of Metco 58 blade root coating as an optional terminating action. That AD was the result of the discovery of cracks on LPC fan blade roots during an engine overhaul. That condition, if not corrected, could result in uncontained multiple fan blade failure, and damage to the airplane.

Actions Since AD 2003-12-15 Was Issued

Since AD 2003-12-15 was issued, the Civil Aviation Authority (CAA), which is the airworthiness authority for the United Kingdom (UK), notified us that Rolls-Royce plc has updated MSB No. RB.211-72-C879, Revision 3, dated October 3, 2002, to Revision 4, dated April 2, 2004, for RR RB211 series turbofan engines. The CAA advises that Revision 4 of the MSB contains revised Accomplishment Instructions and consumable materials list.

Special Flight Permits Paragraph Removed

Paragraph (h) of the current AD, AD 2003-12-15, contains a paragraph pertaining to special flight permits. Even though this final rule does not contain a similar paragraph, we have made no changes with regard to the use of special flight permits to operate the airplane to a repair facility to do the work required by this AD. In July 2002, we published a new part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Relevant Service Information

We have reviewed and approved the technical contents of RR MSB No. RB.211-72-C879, Revision 4, dated April 2, 2004. That MSB describes procedures for ultrasonic inspection of high cyclic life blades on-wing with either the LPC fan blades in place or removed from the LPC. The CAA classified the original issue of the service bulletin as mandatory and issued AD 002-01-2000 in order to ensure the airworthiness of these RR engines in the UK.

Bilateral Airworthiness Agreement

These engine models are manufactured in the U.K. and are type certificated for operation in the United States under the provisions of section 21.29 of the Federal Aviation Regulations (14 CFR 21.29) and the applicable bilateral airworthiness agreement. Under this bilateral airworthiness agreement, the CAA has kept the FAA informed of the situation described above. We have examined the findings of the CAA, reviewed all available information, and determined that AD action is necessary for products of this type design that are certificated for operation in the United States.

FAA's Determination and Requirements of This AD

We have evaluated all pertinent information and identified an unsafe condition that is likely to exist or develop on other products of this same type design. Therefore, we are issuing this AD, which requires initial and repetitive ultrasonic inspection of installed LPC fan blade roots on-wing and during overhaul using a surface wave ultrasonic probe, and relubrication, according to accumulated life cycles. This AD also maintains the application of Metco 58 blade root coating as an optional terminating action. You must use the service information described previously to perform the actions required by this AD.

FAA's Determination of the Effective Date

Since an unsafe condition exists that requires the immediate adoption of this AD, we have found that notice and opportunity for public comment before issuing this AD are unnecessary, and that good cause exists for making this amendment effective in less than 30 days.

Comments Invited

This AD is a final rule that involves requirements affecting flight safety and was not preceded by notice and an opportunity for public comment; however, we invite you to submit any written relevant data, views, or arguments regarding this AD. Send your comments to an address listed under ADDRESSES. Include “AD Docket No. 2000-NE-13-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

Examining the AD Docket

You may examine the AD Docket (including any comments and service information), by appointment, between 8 a.m. and 4:30 p.m., Monday through Friday, except Federal holidays. See ADDRESSES for the location.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-NE-13-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-13200 (68 FR 37735, June 25, 2003), and by adding a new airworthiness directive, Amendment 39-13950, to read as follows:

2005-02-05 Rolls-Royce plc: Amendment 39-13950. Docket No. 2000-NE-13-AD. Supersedes AD 2003-12-15, Amendment 39-13200.

Effective Date

(a) This airworthiness directive (AD) becomes effective February 11, 2005.

Affected ADs

(b) This AD supersedes AD 2003-12-15, Amendment 39-13200.

Applicability

(c) This AD applies to Rolls-Royce (RR) plc RB211-535E4-37, RB211-535E4-B-37, and RB211-535E4-B-75 series turbofan engines with low pressure compressor (LPC) fan blades with the part numbers (P/Ns) listed in Table 1 of this AD. These engines are installed on, but not limited to, Boeing 757 and Tupolev Tu204 series airplanes. Table 1 follows:

Table 1.—Applicable LPC Fan Blade P/Ns
UL16135 | UL28602
UL16171 | UL29511
UL16182 | UL29556
UL19643 | UL30817
UL20044 | UL30819
UL20132 | UL30933
UL20616 | UL30935
UL21345 | UL33707
UL22286 | UL33709
UL23122 | UL36992
UL24525 | UL37090
UL24528 | UL37272
UL24530 | UL37274
UL24532 | UL37276
UL24534 | UL37278
UL27992 | UL38029
UL28601 | UL38032

Unsafe Condition

(d) This AD results from RR issuing Mandatory Service Bulletin (MSB) No. RB.211-72-C879, Revision 4, which contains revised Accomplishment Instructions and consumable materials list. We are issuing this AD to detect cracks in low pressure compressor (LPC) fan blade roots, which if not detected, could lead to uncontained multiple fan blade failure, and damage to the airplane.

Compliance

(e) You are responsible for having the actions required by this AD performed within the compliance times specified unless the actions have already been done.

(f) If you have a full set of fan blades, modified using RR Service Bulletin No. RB.211-72-C946, Revision 2, dated September 26, 2002, that can be identified by a blue triangle etched on the blade airfoil suction surface close to the leading edge tip of each blade, no further action is required.

(g) On RB211-535E4 engines, operated to Flight Profile A, ultrasonically inspect, and if required, relubricate using the following Table 2:

Table 2.—RB211-535E4 Flight Profile A
Engine location | Initial inspection within cycles-since-new (CSN) | Type action | In accordance with | Repeat inspection within (CSN)
(1) On-wing | 17,350 | (i) Root Probe, inspect and relubricate, OR | RB.211-72-C879 Revision 4, 3.A.(1) through 3.A.(7), dated April 2, 2004 | 1,400
|  | (ii) Wave Probe | RB.211-72-C879 Revision 4, 3.B.(1) through 3.B.(7), dated April 2, 2004 | 1,150
(2) In Shop | 17,350 | Root Probe, inspect and relubricate | RB.211-72-C879 Revision 4, 3.C.(1) through 3.C.(4), dated April 2, 2004 | 1,400

(h) On RB211-535E4 engines, operated to Flight Profile B, ultrasonically inspect, and if required, relubricate using the following Table 3:

Table 3.—RB211-535E4 Flight Profile B
Engine location | Initial inspection within (CSN) | Type action | In accordance with | Repeat inspection within (CSN)
(1) On-wing | 12,350 | (i) Root Probe, inspect and relubricate, OR | RB.211-72-C879 Revision 4, 3.A.(1) through 3.A.(7), dated April 2, 2004 | 850
|  | (ii) Wave Probe | RB.211-72-C879 Revision 4, 3.B.(1) through 3.B.(7), dated April 2, 2004 | 700
(2) In Shop | 12,350 | Root Probe, inspect and relubricate | RB.211-72-C879 Revision 4, 3.C.(1) through 3.C.(4), dated April 2, 2004 | 850

(i) On RB211-535E4 engines, operated to combined Flight Profile A and B, ultrasonically inspect, and if required, relubricate using the following Table 4:

Table 4.—RB211-535E4 Flight Profile A and B
Engine location | Initial inspection within (CSN) | Type action | In accordance with | Repeat inspection within (CSN)
(1) On-wing | 65% hard life (To calculate, see Compliance Section 1.C(4)) | (i) Root Probe, inspect and relubricate, OR | RB.211-72-C879 Revision 4, 3.A.(1) through 3.A.(7), dated April 2, 2004 | As current flight profile.
|  | (ii) Wave Probe | RB.211-72-C879 Revision 4, 3.B.(1) through 3.B.(7), dated April 2, 2004 | As current flight profile.
(2) In Shop | 65% hard life (To calculate, see Compliance Section 1.C.(4)) | Root Probe, inspect and relubricate | RB.211-72-C879 Revision 4, 3.C.(1) through 3.C.(4), dated April 2, 2004 | As current flight profile.

(j) Fan blades that have been operated within RB211-535E4 Flight Profile A and B will have final life as defined in the Time Limits Manual. See References Section 1.G.(3), of MSB RB.211-72-C879, Revision 4, dated April 2, 2004.

(k) On RB211-535E4-B engines, ultrasonically inspect, and if required, relubricate using the following Table 5:

Table 5.—RB211-535E4-B
Engine location | Initial inspection within (CSN) | Type action | In accordance with | Repeat inspection within (CSN)
(1) On-wing | 17,000 | (i) Root Probe, inspect and relubricate, OR | RB.211-72-C879 Revision 4, 3.A.(1) through 3.A.(7), dated April 2, 2004 | 1,200
|  | (ii) Wave Probe. | RB.211-72-C879 Revision 4, 3.B.(1) through 3.B.(7), dated April 2, 2004 | 1,000
(2) In Shop | 17,000 | Root Probe, inspect and relubricate. | RB.211-72-C879 Revision 4, 3.C.(1) through 3.C.(4), dated April 2, 2004 | 1,200

Optional Terminating Action

(l) Application of Metco 58 blade root coating using RR SB No. RB.211-72-C946, Revision 2, dated September 26, 2002, constitutes terminating action to the repetitive inspection requirements specified in paragraphs (g), (h), (i), and (k) of this AD.

Alternative Methods of Compliance

(m) The Manager, Engine Certification Office, has the authority to approve alternative methods of compliance for this AD if requested using the procedures found in 14 CFR 39.19.

Previous Credit

(n) Previous credit is allowed for initial and repetitive inspections performed using AD 2003-12-15 (Amendment 39-13200, 68 FR 37735, June 25, 2003) and RR MSB No. RB.211-72-C879, Revision 3, dated October 9, 2002.

Material Incorporated by Reference

(o) You must use Rolls-Royce Mandatory Service Bulletin No. RB.211-72-C879, Revision 4, dated April 2, 2004, to perform the inspections and relubrication required by this AD. The Director of the Federal Register approved the incorporation by reference of this service bulletin in accordance with 5 U.S.C. 552(a) and 1 CFR part 51. You can get a copy from Rolls-Royce plc, PO Box 31, Derby, England, DE248BJ; telephone: 011-44-1332-242-424; fax: 011-44-1332-249-936. You may review copies at the FAA, New England Region, Office of the Regional Counsel, 12 New England Executive Park, Burlington, MA; or on the Internet at http://dms.dot.gov; or at the National Archives and Records Administration (NARA). For information on the availability of this material at NARA, call (202) 741-6030, or go to: http://www.archives.gov/federal_register/code_of_federal_regulations/ibr_locations.html.

Related Information

(p) CAA airworthiness directive AD 002-01-2000, dated October 9, 2002, also addresses the subject of this AD.

Issued in Burlington, Massachusetts, on January 18, 2005.
Jay J. Pardee,
Manager, Engine and Propeller Directorate, Aircraft Certification Service.

[FR Doc. 05-1384 Filed 1-26-05; 8:45 am]

BILLING CODE 4910-13-P